SOCIAL SECURITY ADMINISTRATION

Agency Information Collection Activities: Proposed Request and Comment Request

The Social Security Administration (SSA) publishes a list of information collection packages requiring clearance by the Office of Management and Budget (OMB) in compliance with Public Law (Pub. L.) 104-13, the Paperwork Reduction Act of 1995, effective October 1, 1995. This notice includes revisions to and extensions of OMB-approved information collections.

SSA is soliciting comments on the accuracy of the agency's burden estimate; the need for the information; its practical utility; ways to enhance its quality, utility, and clarity; and ways to minimize the burden on respondents, including the use of automated collection techniques or other forms of information technology. Mail, e-mail, or fax your comments and recommendations on the information collection(s) to the OMB Desk Officer and the SSA Director for Reports Clearance to the addresses or fax numbers shown below.

OMB

Office of Management and Budget, Attn: Desk Officer for SSA; Fax: 202-395-6974; E-mail address: OIRA_Submion@omb.eop.gov.

SSA

Social Security Administration, DCBFM, Attn: Director, Center for Reports Clearance, 1333 Annex Building, 6401 Security Blvd., Baltimore, MD 21235; Fax: 410-965-0454; E-mail address: OPLM.RCO@ssa.gov.

I. The information collection below is pending at SSA. SSA will submit it to OMB within 60 days from the date of this notice. To be sure we consider your comments, we must receive them no later than February 19, 2010. Individuals can obtain copies of the collection instrument by calling the SSA Director for Reports Clearance at 410-965-0454 or by writing to the above e-mail address.

1. Claimant Statement about Loan of Food or Shelter; Statement about Food or Shelter Provided to Another—20 CFR 416.1130-416.1148—0960-0529. SSA uses Forms SSA-5062 and SSA-L5063 to obtain statements about food and/or shelter provided to SSI claimants or recipients. SSA uses this information to determine whether food and/or shelter are bona fide loans or should be counted as income for SSI purposes. This determination can affect a claimant's or recipient's eligibility for SSI and the amount of SSI payments. The respondents are claimants and recipients of SSI payments and individuals who provide food or shelter loans to them.

Type of Request: Revision of an OMB-approved information collection.

Number of Respondents: 131,080.

Frequency of Response: 1.

Average Burden Per Response: 10 minutes.

Estimated Annual Burden: 21,846 hours.

2. Direct Deposit Sign-Up Form (Country)—31 CFR 210—0960-0686. SSA's International Direct Deposit Program allows beneficiaries living abroad to have their payments directly deposited to an account at a financial institution outside the United States. SSA uses Form SSA-1199 to obtain the direct deposit information for an account at a foreign financial institution. Routing account number information varies slightly for each foreign country, so we use a variation of the Department of Treasury's Form SF-1199A for each country. The respondents are Social Security beneficiaries residing abroad who wish to have their benefit payments directly deposited to a foreign financial institution.

Type of Request: Revision of an OMB-approved information collection.

Number of Respondents: 5,000.

Frequency of Response: 1.

Average Burden Per Response: 5 minutes.

Estimated Annual Burden: 417 hours.

3. Temporary Extension of Attorney Fee Payment System to Title XVI; 5-Year Demonstration Project Extending Fee Withholding and Payment Procedures to Eligible Non-Attorney Representatives; Definition of Past-Due Benefits; and Assessment for Fee Payment Services—20 CFR 404.1717, 404.1730(c)(1), 404.1730(c)(2)(i), 404.1730(c)(2)(ii), 416.1517, 416.1528(a), 416.1530(c)(1), 416.1530(c)(2)(i), 416.1530(c)(2)(i)—OMB No. 0960-0745. Section 302 of the Social Security Protection Act of 2004 (SSPA), Public Law 108-203, amended section 1631(d)(2) of the Social Security Act to temporarily extend the Title II attorney fee withholding and direct payment process to Title XVI. Section 303 of the SSPA directs SSA to conduct a 5-year nationwide demonstration project to allow qualifying non-attorneys the option of fee withholding and direct payment of fees under both Titles II and XVI. SSA uses the information to administer fee withholding and direct payment to certain non-attorney representatives. Respondents are non-attorneys who are eligible to receive direct payment of fees for representing individuals before SSA.

Type of Request: Extension of an OMB-approved information collection.

Regulation section | Number of respondents | Frequency of response | Average burden per response (minutes) | Estimated annual burden (hours)
404.1730(c)(2)(i) | 841 | 10/year | 30 | 4,205
404.1730(c)(2)(ii) | 600 | 1 | 3 | 30
416.1530(c)(2)(i) | 561 | 10/year | 30 | 2,805
416.1530(c)(2)(ii) | 400 | 1 | 3 | 20
Totals | 2,402 |  |  | 7,060

II. SSA has submitted the information collections listed below to OMB for clearance. Your comments on the information collections would be most useful if OMB and SSA receive them within 30 days from the date of this publication. To be sure we consider your comments, we must receive them no later than January 20, 2010. You can obtain a copy of the OMB clearance packages by calling the SSA Director for Reports Clearance at 410-965-0454 or by writing to the above e-mail address.

1. Authorization for the Social Security Administration to Obtain Account Records from a Financial Institution and Request for Records—20 CFR 416.200, 416.203—0960-0293. Individuals must authorize financial institutions to disclose records to SSA by signing an SSA-4641-U2. Financial institutions use the form to provide financial information to SSA. We need the information if an individual's records are incomplete, unavailable, or appear altered. SSA must verify the existence, ownership, and value of accounts of SSI applicants, recipients, and deemors. We use the financial institution's report, in part, to determine whether the respondent meets SSI resource eligibility requirements. The respondents are SSI applicants', recipients', or deemors' financial institutions.

Type of Request: Revision of an OMB-approved information collection.

Modality | Number of responses | Frequency of response | Average burden per response (minutes) | Total annual burden (hours)
SSA-4641-U2 | 320,000 | 1 | 6 | 32,000
e4641 | 180,000 | 1 | 6 | 18,000
Total | 500,000 |  |  | 50,000

This is a correction notice: SSA is updating burden information for this collection initially published at 74 FR 39728 on August 7, 2009.

2. The Ticket to Work and Self-Sufficiency Program—20 CFR 411— 0960-0644. Through its Ticket to Work Program Manager, SSA uses the information to operate and manage the Ticket to Work Program. SSA uses the Ticket to Work Program to assign Social Security Disability Insurance (SSDI) or SSI recipients to a service provider and follows their progress through the various stages of ticket program participation, such as progress reviews or changes in ticket status. Most of the collections in this information collection request (ICR) require service providers to provide information to SSA for such tasks as selecting a payment system or requesting payments for helping the beneficiary achieve certain work goals. Most of the categories of information in this ICR are necessary for SSA to: (1) Comply with the Ticket to Work legislation; and (2) provide proper oversight of the program. SSA collects this information through several modalities, including forms, electronic exchanges, and written documentation. The respondents are SSDI beneficiaries and blind or disabled SSI recipients and their employment networks, or State vocational rehabilitation agencies assigned under the auspices of the Ticket to Work Program.

Correction Notice: Type of Request: Revision of an OMB-approved information collection.

Modality of completion | Number of respondents | Frequency of response | Average burden per response (minutes) | Total annual burden (hours)
(a) 20 CFR 411.140(d)(3); 411.150(b)(3); 411.325(a); SSA-1365 | 12,330 | 1 | 60 | 12,330
(a) 20 CFR 411.140(d)(3); 411.150(b)(3); 411.325(a); SSA-1370 | 1,370 | 1 | 60 | 1,370
(a) 20 CFR 411.166; 411.170(b); Electronic Data Sharing | 35,584 | 1 | 5 | 2,965
(b) 20 CFR 411.145; 411.325; Requesting Ticket Un-assignments | 2,532 | 1 | 15 | 633
(b) 20 CFR 411.535(a)(1)(iii); VR Case Closures | 8,505 | 1 | 5 | 709
(c) 20 CFR 411.192(b)&(c); Request to Place Ticket in Inactive Status | 1,000 | 1 | 30 | 500
(c) 20 CFR 411.200(b); SSA-1375; SSA-L1373; SSA-L1374; SSA-L1377; Certification of Work and Educational Progress | 127,000 | 1 | 15 | 31,750
(c) 20 CFR 411.210(b); Ticket-Use Status after Not Making Timely Progress | 3,145 | 1 | 30 | 1,573
(d) 20 CFR 411.365; 411.505; 411.515; Selecting a Payment System | 118 | 1 | 30 | 59
(e) 20 CFR 411.325(d); 411.415; Reporting Referral Agreement | 48 | 1 | 480 | 384
(f) 20 CFR 411.575; SSA-1391; SSA-1389; SSA-1393; SSA-1399; SSA-1396; SSA-1392; SSA-1398; Requesting EN Payments | 12,420 | 1 | 30 | 6,210
(f) 20 CFR 411.575; SSA-1392; EN Payment Status Report Request | 100 | 1 | 5 | 8
(f) 20 CFR 411.560; Split Payment Situations | 100 | 1 | 20 | 33
(g) 20 CFR 411.325(f); Periodic Outcomes Reporting | 2,470 | 1 | 120 | 4,940
(h) 20 CFR 411.435; 411.615; 411.625; Dispute Resolutions | 2 | 1 | 120 | 4
(i) 20 CFR 411.320; SSA-1394; EN Contract Changes | 202 | 1 | 10 | 34
Totals | 206,926 |  |  | 63,502

This is a correction notice: SSA is updating burden information for this collection initially published at 74 FR 39728 on August 7, 2009.

3. Non-Attorney Representative Demonstration Project Application—20 CFR 404.1745-404.1799 and 20 CFR 416.1545-416.1599—0960-0699. Section 303 of the SSPA provides for a 5-year demonstration project under which SSA extends the direct payment of approved fees to certain non-attorney claimant representatives. Under the SSPA, to be eligible for direct payment of fees, a non-attorney representative must fulfill the following statutory requirements: (1) Possess a bachelors degree or have equivalent qualifications from training and work experience; (2) pass an examination that tests knowledge of the relevant provisions of the Social Security Act; (3) secure professional liability insurance or equivalent insurance; (4) pass a criminal background check; and (5) demonstrate completion of relevant continuing education courses. Through the services of a private contractor, SSA must collect the requested information to determine if a non-attorney representative has met the statutory requirements to be eligible for direct payment of fees for his or her claimant representation services. SSA needs this information to comply with the legislation. The respondents are non-attorney representatives who apply for direct payment of fees.

Type of Request: Revision of an OMB-approved information collection.

Number of Respondents: 700.

Modality of completion | Number of respondents | Frequency of response | Response time (minutes) | Total annual burden (hours)
New Applicants (paper submission) | 20 | 1 | 60 | 20
New Applicants (electronic submission) | 180 | 1 | 60 | 180
Existing Applicants CE Submission | 500 | 1 | 30 | 250
Totals | 700 |  |  | 450

This is a correction notice: SSA is updating burden information for this collection initially published at 74 FR 48795 on September 24, 2009.

Dated: December 15, 2009.
Elizabeth A. Davidson,
Director, Center for Reports Clearance, Social Security Administration.

[FR Doc. E9-30227 Filed 12-18-09; 8:45 am]

BILLING CODE 4191-02-P